DEPARTMENT OF HOMELAND SECURITY

[Docket No. USCG-2014-0098]

Chemical Transportation Advisory Committee; Vacancies

AGENCY: Coast Guard, DHS.

ACTION: Request for applications.

SUMMARY: The Coast Guard seeks applications for membership on the Chemical Transportation Advisory Committee (CTAC). CTAC provides advice and makes recommendations on matters relating to the safe and secure marine transportation of hazardous materials activities insofar as they relate to matters within the United States Coast Guard's jurisdiction.

DATES: Applications for CTAC must include a cover letter and resume. Note that all materials must be received on or before June 9, 2014.

ADDRESSES: If you wish to apply for membership, your cover letter and resume should be submitted via one of the following methods:

• By Email: Patrick.A.Keffler@uscg.mil

• By Fax: (202) 372-8380

• By Mail: Mr. Patrick Keffler, Alternate Designated Federal Official (ADFO) of CTAC, Commandant, Hazardous Materials Division (CG-ENG-5), U.S. Coast Guard, 2703 Martin Luther King Jr. Ave. SE., Stop 7509 Washington, DC 20593-7509.

FOR FURTHER INFORMATION CONTACT: Lieutenant Cristina Nelson, 2703 Martin Luther King Jr. Avenue SE., Stop 7509 Washington, DC 20593-7509, cristina.e.nelson@uscg.mil, phone: 202-372-1419, fax: 202-372-8380.

SUPPLEMENTARY INFORMATION: CTAC is established under the authority of Section 871 of the Homeland Security Act of 2002, 6 U.S.C. 451. CTAC is an advisory committee established in accordance with and operating under the provisions of the Federal Advisory Committee Act (FACA), 5 U.S.C. Appendix, Public Law 92-463, 86 Stat. 770, as amended. This notice is issued under the authority of FACA.

CTAC provides advice and recommendations to the Department of Homeland Security (DHS) on matters relating to the safe and secure marine transportation of hazardous materials activities insofar as they relate to matters within the United States Coast Guard's jurisdiction.

CTAC meets at least twice per year. It may also meet for extraordinary purposes. Its Subcommittees may meet to consider specific problems as required.

The Coast Guard will consider applications for 10 positions that become vacant on September 17, 2014. To be eligible, applicants should have experience in chemical manufacturing, marine handling or transportation of chemicals, vessel design and construction, marine safety or security, or marine environmental protection. Each member serves for a term of three years. CTAC members may be limited to serving no more than two consecutive three-year terms. A member appointed to fill unexpired term may serve the remainder of that term. All members serve at their own expense and receive no salary, reimbursement of travel expenses, or other compensation from the Federal Government.

Registered lobbyists are not eligible to serve on Federal advisory committees. Registered lobbyists are lobbyists required to comply with provisions contained in The Lobbying Disclosure Act of 1995 (Pub. L. 104-65, as amended by Title II of Pub. L. 110-81).

The Department of Homeland Security (DHS) does not discriminate in selection of Committee members on the basis of race, color, religion, sex, national origin, political affiliation, sexual orientation, gender identity, marital status, disabilities and genetic information, age, membership in an employee organization, or any other non-merit factor. DHS strives to achieve a widely diverse candidate pool for all of its recruitment actions.

If you are interested in applying to become a member of the Committee, submit your application materials indicating the position you wish to fill; specify your area of expertise, knowledge and experience that qualify you for the service on CTAC; and submit your complete package to Mr. Patrick Keffler, ADFO of CTAC, via one of the transmittal methods provided above. All email submittals will receive email receipt confirmation. Note that during the vetting process, applicants may be asked by the White House Liaison Office through the Coast Guard to provide their date of birth and social security number. To visit our online docket, go to http://www.regulations.gov enter the docket number (for this notice (USCG-2014-0098) in the Search box, and click “Search”. Please do not post your resume on this site.

Dated: April 22, 2014.
F. J. Sturm,
Acting Director of Commercial Regulations and Standards.

[FR Doc. 2014-09496 Filed 4-24-14; 8:45 am]

BILLING CODE 4410-10-P